NATIONAL SCIENCE FOUNDATION

Sunshine Act Meetings; National Science Board

The National Science Board's ad hoc Committee on Elections, pursuant to NSF regulations (45 CFR part 614), the National Science Foundation Act, as amended (42 U.S.C. 1862n-5), and the Government in the Sunshine Act (5 U.S.C. 552b), hereby gives notice of the scheduling of a teleconference for the transaction of National Science Board business, as follows:

TIME AND DATE: April 2, 2018 from 10:00-11:00 a.m. EDT.

PLACE: This meeting will be held by teleconference at the National Science Foundation, 2415 Eisenhower Avenue, Alexandria, VA 22314.

STATUS: Closed.

MATTERS TO BE CONSIDERED: Committee Chair's welcome and remarks; discussion of nominations of potential re-appointees; discussion on nominee list; drafting of election slate(s); and closing remarks.

CONTACT PERSON FOR MORE INFORMATION: Point of contact for this meeting is: Brad Gutierrez, bgutierr@nsf.gov, 703-292-7000. Please refer to the National Science Board website www.nsf.gov/nsb for additional information. You may find meeting information and any updates (time, place, matters to be considered, or status of meeting) at https://www.nsf.gov/nsb/meetings/notices.jsp#sunshine.

Chris Blair,
Executive Assistant to the NSB Office.

[FR Doc. 2018-06457 Filed 3-27-18; 11:15 am]

BILLING CODE 7555-01-P